DEPARTMENT OF ENERGY

Federal Energy Regulatory Commission

[Docket No. CP24-490-000]

EcoEléctrica, L.P.; Notice of Schedule for the Preparation of an Environmental Assessment for the EcoEléctrica Liquefied Natural Gas (LNG) Supply Pipeline Capacity Project

On July 5, 2024, EcoEléctrica, L.P. (EcoEléctrica), filed an application in Docket No. CP24-490-000 requesting authorization under section 3(a) of the Natural Gas Act to increase the sendout capacity in its LNG Supply Pipeline Capacity Project (Project) to the existing off-site Truck Loading Facility (TLF) from 250 gpm to 500 gpm in Peñuelas, Puerto Rico.

On July 19, 2024, the Federal Energy Regulatory Commission (Commission or FERC) issued its Notice of Application for the Project. Among other things, that notice alerted agencies issuing Federal authorizations of the requirement to complete all necessary reviews and to reach a final decision on a request for a Federal authorization within 90 days of the date of issuance of the Commission staff's environmental document for the Project.

This notice identifies Commission staff's intention to prepare an environmental assessment (EA) for the Project and the planned schedule for the completion of the environmental review.¹ The EA will be issued for a 30-day comment period.

¹ In accordance with the Council on Environmental Quality's regulations, the unique identification number for documents relating to this environmental review is EAXX-019-20-000-1730221396. 40 CFR 1501.5(c)(4) (2024).

Schedule for Environmental Review

Issuance of EA—April 4, 2025

90-day Federal Authorization Decision Deadline ²—July 3, 2025

² The Commission's deadline applies to the decisions of other Federal agencies, and State agencies acting under federally delegated authority, that are responsible for Federal authorizations, permits, and other approvals necessary for proposed projects under the Natural Gas Act. Per 18 CFR 157.22(a), the Commission's deadline for other agency's decisions applies unless a schedule is otherwise established by Federal law.

If a schedule change becomes necessary, additional notice will be provided so that the relevant agencies are kept informed of the Project's progress.

Project Description

EcoEléctrica proposes to increase the sendout capacity in its LNG Supply Pipeline to the existing off-site TLF from 250 gpm to 500 gpm, to satisfy the increasing demand for liquefied natural gas from the TLF and its downstream users. The requested capacity increase would require no construction and only minor modifications to the existing LNG facilities at the Terminal. Specifically, the Project would only require LNG sendout pressure control setpoint adjustments at the inlet of the LNG Supply Pipeline.

Background

On October 22, 2024, the Commission issued a Notice of Scoping Period Requesting Comments on Environmental Issues for the Proposed EcoEléctrica LNG Supply Pipeline Capacity Project (Notice of Scoping). The Notice of Scoping was sent to affected landowners; Federal, State, and local government agencies; elected officials; environmental and public interest groups; other interested parties; and local libraries and newspapers. To date, no comments have been received. Any substantive comments received will be addressed in the EA.

Additional Information

In order to receive notification of the issuance of the EA and to keep track of formal issuances and submittals in specific dockets, the Commission offers a free service called eSubscription. This service provides automatic notification of filings made to subscribed dockets, document summaries, and direct links to the documents. Go to https://www.ferc.gov/ferc-online/overview to register for eSubscription.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Additional information about the Project is available from the Commission's Office of External Affairs at (866) 208-FERC or on the FERC website (www.ferc.gov). Using the “eLibrary” link, select “General Search” from the eLibrary menu, enter the selected date range and “Docket Number” excluding the last three digits (i.e., CP24-490-000), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: November 13, 2024.
Debbie-Anne A. Reese,
Secretary.

[FR Doc. 2024-26940 Filed 11-18-24; 8:45 am]

BILLING CODE 6717-01-P